DEPARTMENT OF AGRICULTURE

Rural Utilities Service

Information Collection Activity; Comment Request

AGENCY: Rural Utilities Service, USDA.

ACTION: Notice and request for comments.

SUMMARY: In accordance with the Paperwork Reduction Act of 1995 (44 U.S.C. Chapter 35, as amended), the Rural Utilities Service (RUS) invites comments on this information collection for which RUS intends to request approval from the Office of Management and Budget (OMB).

DATES: Comments on this notice must be received by May 1, 2006.

FOR FURTHER INFORMATION CONTACT: Michele Brooks, Deputy Director, Program Development and Regulatory Analysis, Rural Utilities Service, 1400 Independence Ave., SW., STOP 1522, Room 5159 South Building, Washington, DC 20250-1522. Telephone: (202) 690-1078. FAX: (202) 720-8435.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see 5 CFR 1320.8(d)). This notice identifies an information collection that RUS is submitting to OMB for extension.

Comments are invited on: (a) Whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to: Joyce McNeil, Program Development and Regulatory Analysis, Rural Utilities Service, U.S. Department of Agriculture, STOP 1522, 1400 Independence Ave., SW., Washington, DC 20250-1522. FAX: (202) 720-8435.

Title: RUS Form 675, Certification of Authority.

OMB Control Number: 0572-0074.

Type of Request: Extension of a currently approved collection.

Abstract: The Rural Utilities Service (RUS) manages loan programs in accordance with the Rural Electrification Act of 1936, as amended (7 U.S.C. 901 et seq.) (RE Act). A major factor in managing loan programs is controlling the advance of funds. One reason to control funds is so that the actual borrowers get their money. The use of RUS Form 675 allows this control to be achieved by providing a list of authorized signatures against which signatures requesting funds are compared. RUS Form 675 provides an effective control against the unauthorized release of funds by providing a list of authorized signatures. OMB Circular A-123, Management Accountability and Control, states that information should be maintained on a current basis and that cash should be protected from unauthorized use. Form 675 allows borrowers to keep RUS up-to-date of any changes in signature authority and controls the release funds only to authorized borrower representatives.

Estimate of Burden: Public reporting for this collection of information is estimated to average .10 hours per response.

Respondents: Business or other for profit; Not-for-profit institutions; and State, Local, or Tribal government.

Estimated Number of Respondents: 350.

Estimated Number of Responses per Respondent: 1.

Estimated Total Annual Burden on Respondents: 35.0 hours.

Copies of this information collection can be obtained from Joyce McNeil, Program Development and Regulatory Analysis, at (202) 690-1078. FAX: (202) 720-8435.

All responses to this notice will be summarized and included in the request for OMB approval. All comments will also become a matter of public record.

Dated: February 17, 2006.
James M. Andrew,
Administrator, Rural Utilities Service.

[FR Doc. 06-1819 Filed 2-27-06; 8:45 am]

BILLING CODE 3410-15-P